OFFICE OF MANAGEMENT AND BUDGET

Office of Federal Procurement Policy

Cost Accounting Standards Board Meeting Agenda

AGENCY: Cost Accounting Standards Board, Office Federal Procurement Policy, Office of Management and Budget.

ACTION: Notice of agenda for closed Cost Accounting Standards Board meetings.

SUMMARY: The Office of Federal Procurement Policy (OFPP), Cost Accounting Standards Board (CAS Board) is publishing this notice to advise the public of its winter meetings. The notice is published pursuant to section 820(a) of the National Defense Authorization Act (NDAA) for Fiscal Year (FY) 2017, which requires the CAS Board to publish agendas of its meetings in the Federal Register. The meetings are closed to the public.

DATES: March 19, 2020.

ADDRESSES: New Executive Office Building, 725 17th Street NW, Washington, DC 20503

FOR FURTHER INFORMATION CONTACT: Raymond Wong, Staff Director, Cost Accounting Standards Board (telephone: 202-395-6805; email: rwong@omb.eop.gov).

SUPPLEMENTARY INFORMATION: The CAS Board is issuing this notice for public awareness of a meeting held on February 20, 2020 and a meeting upcoming on March 19, 2020. The list of agenda items for these meetings is set forth below. While CAS Board meetings are closed to the public, the Board welcomes comments and inquiries, which may be directed to the staff director using the contact information provided above.

Agenda for CAS Board Meetings on February 20, 2020 and March 19, 2020

1. Conformance of CAS to Generally Accepted Accounting Principles (GAAP). Section 820 requires the CAS Board to review and conform CAS, where practicable, to GAAP. In furtherance of section 820, the CAS Board will discuss the following tentatively planned actions, taking into account comments received in response to the staff discussion paper (SDP) it published on March 13, 2019 (84 FR 9143): (1) An advanced notice of proposed rulemaking (ANPRM) on conformance of CAS 408, Accounting for Costs of Compensated Personal Absence, and CAS 409, Cost Accounting Standard Depreciation of Tangible Capital Assets, to GAAP. More generally, the Board will discuss whether and when conformance of CAS to GAAP might be considered a cost accounting practice change.

2. Application of CAS to indefinite delivery vehicles (IDVs) and hybrid contracts. The Board will revisit recommendations pertaining to the treatment of IDVs and hybrid contracts made by the Advisory Panel on Streamlining Acquisition Regulations established by section 809 of the FY 2016 National Defense Authorization Act (the Panel). In its June 2018 report, the Panel recommended that the Board amend its regulations to state that the CAS applicability determination be made separately for each order, rather than at the time the IDV contract is first awarded. The Panel suggested that this clarification can help to avoid confusion caused by inclusion of the CAS clause “based on the prospect (however unlikely) of obtaining certified cost or pricing data at order placement.” For hybrid contracts, the Panel recommended that the CAS exemption be applied to any portion of a contract or subcontract where CAS would not apply if that portion were awarded as a separate contract or subcontract.

3. Waivers. Section 820 of the FY 2017 NDAA amended section 1502(b)(3)(A) of title 41 of the United States Code to raise the threshold under which CAS may be waived if the business unit of the contractor or subcontractor that will perform the work is primarily engaged in the sale of commercial items and would not otherwise be subject to CAS. Section 820 raised the threshold from $15 million to $100 million. The Board will discuss a rulemaking to amend the CAS to reflect this statutory threshold change.

4. CAS Board Annual Report for Fiscal Year 2019. Section 820 amended 41 U.S.C. 1501(e) to require the Board to annually submit a report to Congress on the actions taken by the

5. Board during the prior year. The Board will discuss its first annual report to Congress.

Michael E. Wooten,
Administrator for Federal Procurement Policy, and Chair, Cost Accounting Standards Board.

[FR Doc. 2020-05687 Filed 3-18-20; 8:45 am]

BILLING CODE 3110-01-P